DEPARTMENT OF THE INTERIOR

National Park Service

Notice of Intent to Repatriate Cultural Items: University of Kansas, Lawrence, KS

AGENCY: National Park Service, Interior.

ACTION: Notice.

Notice is here given in accordance with the Native American Graves Protection and Repatriation Act (NAGPRA), 25 U.S.C. 3005, of the intent to repatriate cultural items in the possession of the University of Kansas, Lawrence, KS that meet the definitions of “sacred objects and “objects of cultural patrimony” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

The four cultural items are four Hopi “spirit friends” or Katsina masks (Matia, Hopak, Woe, and Mudhead). In 1966, Mrs. Agnese N. Haury purchased masks of the Hopi deities Matia, Hopak, and Woe at O'Reilly's Plaza Art Galleries, Inc., in New York. Mrs. Haury donated the three Katsina masks to the University of Kansas in 1990. In 1992, the Karl Menninger Foundation donated a mask of the Hopi deity Mudhead to the University of Kansas. It is not known when or how Dr. Menninger acquired the Mudhead mask.

Representatives of the Hopi Tribe of Arizona, acting on behalf of the Katsinmomngwit (Hopi traditional religious leaders), have identified the four cultural items as being needed by traditional Hopi religious leaders for the practice of a traditional Native American religion by their present-day adherents. Representatives of the Hopi Tribe of Arizona also have identified the four cultural items as having ongoing historical, traditional, and cultural importance central to the culture itself, and the cultural items could not be alienated by any individual.

Officials of the University of Kansas have determined that, pursuant to 25 U.S.C. 3001 (3)(C), the four cultural items described above are specific ceremonial objects needed by traditional Native American religious leaders for the practice of traditional Native American religions by their present-day adherents. Officials of the University of Kansas also have determined that, pursuant to 25 U.S.C. 3001 (3)(D), the four cultural items described above have ongoing historical, traditional, or cultural importance central to the Native American group or culture itself, rather than property owned by an individual. Lastly, officials of the University of Kansas have determined that, pursuant to 25 U.S.C. 3001 (2), there is a relationship of shared group identity that can be reasonably traced between the sacred objects/objects of cultural patrimony and the Hopi Tribe of Arizona.

Representatives of any other Indian tribe that believes itself to be culturally affiliated with the sacred objects/objects of cultural patrimony should contact Thomas A. Foor, NAGPRA Coordinator, ARCC, University of Kansas, Spooner Hall, 1340 Jayhawk Blvd., Room 5B, Lawrence, KS 66045-7500, telephone (785) 766-5476, before April 16, 2007. Repatriation of the sacred objects/objects of cultural patrimony to the Hopi Tribe of Arizona may proceed after that date if no additional claimants come forward.

The University of Kansas is responsible for notifying the Hopi Tribe of Arizona that this notice has been published.

Dated: January 24, 2007.
Sherry Hutt,
Manager, National NAGPRA Program.

[FR Doc. E7-4726 Filed 3-14-07; 8:45 am]

BILLING CODE 4312-50-S